PENSION BENEFIT GUARANTY CORPORATION

29 CFR Part 4044

Benefits Payable in Terminated Single-Employer Plans; Allocation of Assets in Single-Employer Plans; Interest Assumptions for Valuing and Paying Benefits; Correction

AGENCY: Pension Benefit Guaranty Corporation.

ACTION: Final rule; correction.

SUMMARY: The Pension Benefit Guaranty Corporation published in the Federal Register of December 15, 2005, a final rule amending its regulation on Allocation of Assets in Single-Employer Plans to adopt interest assumptions for plans with valuation dates in January 2006. This document corrects an inadvertent error in that final rule.

DATES: Effective January 1, 2006.

FOR FURTHER INFORMATION CONTACT: Catherine B. Klion, Attorney, Legislative and Regulatory Department, Pension Benefit Guaranty Corporation, 1200 K Street, NW., Washington, DC 20005, 202-326-4024. (TYY/TDD users may call the Federal relay service toll-free at 1-800-877-8339 and ask to be connected to 202-326-4024.)

SUPPLEMENTARY INFORMATION: The Pension Benefit Guaranty Corporation published a document in the December 15, 2005, Federal Register (70 FR 74200), amending its regulation on Allocation of Assets in Single-Employer Plans (29 CFR part 4044) to adopt interest assumptions for plans with valuation dates in January 2006. This documents corrects an inadvertent error in the January 2006 entry to Appendix B to part 4044. (There was no corresponding error in the preamble to the document.)

List of Subjects in 29 CFR Part 4044

Employee benefit plans, Pension insurance, Pensions.

Accordingly 29 CFR part 4044 is corrected by making the following correcting amendments:

PART 4044—ALLOCATION OF ASSETS IN SINGLE-EMPLOYER PLANS

1. The authority citation for part 4044 continues to read as follows:

Authority: 29 U.S.C. 1301(a), 1302(b)(3), 1341, 1344, 1362.

2. In appendix B to part 4044, correct the entry for January 2006, as set forth below, To read as follows:

Appendix B to Part 4044—Interest Rates Used To Value Benefits

* * * * *

For valuation dates occurring in the month— | The values of ic are:: it | The values of ic are:: for t = | The values of ic are:: it | The values of ic are:: for t = | The values of ic are:: it | The values of ic are:: for t =
* * * * * * *
January 2006 | .0570 | 1-20 | .0475 | >20 | N/A | N/A

Issued in Washington, DC, on this 10th day of January 2006.
Vincent K. Snowbarger,
Deputy Executive Director, Pension Benefit Guaranty Corporation.

[FR Doc. 06-330 Filed 1-12-06; 8:45 am]

BILLING CODE 7708-01-M